FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

101 Shipping Inc (NVO & OFF), 2018 Pacific Coast Highway, #200, Lomita, CA 90717, Officers: Hyung K. Shin, President/CFO (Qualifying Individual), Yung H. Cho, Secretary, Application Type: New NVO & OFF License.

A. & A. Trading, Inc. (NVO & OFF), 409 Blue Bell Road, Houston, TX 77037, Officers: Mohammad J. Warsi, Secretary (Qualifying Individual), Mohammad Ahmed, President, Application Type: New NVO & OFF License.

CAP Worldwide, Inc. (NVO & OFF), 3226 Lodestar Road, Building 7, Suite 200, Houston, TX 77032, Officers: Jair Pitty, Treasurer (Qualifying Individual), Rebecca J. Kersting, President/Director/Stockholder, Application Type: QI Change.

Coreana Express (Seattle), Inc. (NVO & OFF), 6858 South 220th Street, Building A, Kent, WA 98032, Officer: Mi Kyung (A.K.A. Megan) Yoo, Pres/CEO/Sec/Treas/CFO (Qualifying Individual), Application Type: New NVO & OFF License.

Cruises Logistic USA, Inc. dba Italian Seaways USA (NVO & OFF), 11825 NW 100th Road, Medley, FL 33178, Officers: Ivonne Zani, Vice President (Qualifying Individual), Marcello Ferri, Stockholder, Application Type: Trade Name Change.

Danzas Corporation dba DHL Global Forwarding, dba Danmar Lines Ltd, dba DHL Danzas Air & Ocean, dba Danmar Lines (NVO & OFF), 1200 South Pine Island Road, Plantation, FL 33324, Officers: Ahmet Erener, Vice President (Head of Ocean Freight U.S.) (Qualifying Individual), Mathieu Floreani, Director/President-CEO, Application Type: QI Change.

Evastar LLC (NVO), 230 Ponce De Leon Blvd., Daytona Beach, FL 32114, Officer: Eva M. Piper, Member/President/CEO (Qualifying Individual), Application Type: New NVO License.

Global Wine Logistics, Inc. (NVO & OFF), 197 Route 19 South, Suite 3000, East Brunswick, NJ 08816, Officer: Anita McNeil, President (Qualifying Individual), Application Type: Name Change.

HTNS America, Inc. dba UKO Logis, Inc. (NVO & OFF), 17258 South Main Street, Carson, CA 90248, Officers: Wong Sang Jang, President/CEO/Secretary (Qualifying Individual), Dong M. Kim, Shareholder/Director, Application Type: QI Change.

Interfreight Harmonized Logistics Inc. (NVO & OFF), 221 Sheridan Blvd., Inwood, NY 11096, Officers: Thomas E. Staub, President (Qualifying Individual), Application Type: QI Change.

Kuehne + Nagel Inc. dba Blue Anchor America Line (NVO), 10 Exchange Place, Jersey City, NJ 07302, Officers: Peter Hofmann, Vice President—Export Compliance (Qualifying Individual), John Hextall, President/CEO, Application Type: Add NVO Service/Trade Name Change.

M & D Global Logistics, Inc. (NVO & OFF), 2211 S. Hacienda Blvd., Suite 201, Hacienda Heights, CA 91745, Officers: Jeffrey Wu, Treasurer/CFO/Director (Qualifying Individual), Jun (Alex) Zhong, Secretary, Application Type: Add OFF Service.

Metro Freight Services, Inc. dba Maritime Express Lines (M.E.L.) (NVO & OFF), 1225 W. St. George Avenue, Linden, NJ 07036, Officers: Paola C. Samaha, President (Qualifying Individual), Zahir Mahmud, Vice President Operations/Secretary, Application Type: QI Change.

Relaciones Cibaeno Express Inc. (NVO), 93-16 37th Avenue, Jackson Heights, NY 11372, Officer: Ygnacio Valdez, President/VP/Treasurer/Secretary (Qualifying Individual), Application Type: New NVO License.

Ruky International Shipping Line LLC (NVO & OFF), 100 Menlo Park, Suite 310, Edison, NJ 08837, Officers: Amarasena A. Rupasinghe, Member/Manager (Qualifying Individual), Application Type: New NVO & OFF License.

Sigmai (Asia) Limited (NVO), Unit A, 23/F, Tower A, Billion Centre, 1 Wang Kwong Road, Kowloon Bay, Kowloon, Hong Kong, China, Officers: Amir Demri, Director/CEO/Secretary/Treasurer (Qualifying Individual), Application Type: New NVO License.

SOS International Shipping Corporation (OFF), 7260 Hidden Cove Court, Weeki Wachee, FL 34607, Officers: Anthony Cavaliere, Secretary (Qualifying Individual), Barbara A. Romer, President/Owner, Application Type: New OFF License.

Transportes Zuleta, Inc. (NVO), 844 W. Flagler Street, Miami, FL 33130, Officers: Carmen L. Rodriguez, Treasurer (Qualifying Individual), Jaqueline Morales, President, Application Type: QI Change.

Welcome Freight Forwarding, Inc. (OFF), 8424 NW 56th Street, Miami, FL 33166, Officer: Gustavo T. Navarro, President/Secretary, Application Type: New OFF License.

Dated: May 18, 2012.
Karen V. Gregory,
Secretary.

[FR Doc. 2012-12532 Filed 5-22-12; 8:45 am]

BILLING CODE 6730-01-P